INTERNATIONAL TRADE COMMISSION

[Investigation No. 731-TA-828 (Final)]

In the Matter of Bulk Aspirin From China; Notice of Commission Determination To Conduct a Portion of the Hearing In Camera

AGENCY: U.S. International Trade Commission.

ACTION: Closure of a portion of a Commission hearing.

SUMMARY: Upon request of domestic producer Rhodia, Inc.(“Petitioner”), the Commission has determined to conduct a portion of its hearing in the above-captioned investigation scheduled for May 18, 2000, in camera. See Commission rules 207.24(d), 201.13(m) and 201.36(b)(4) (19 CFR §§ 207.24(d), 201.13(m) and 201.36(b)(4)). The remainder of the hearing will be open to the public.

The Commission has determined that the seven-day advance notice of the change to a meeting was not possible. See Commission rule 201.35(a), (c)(1) (19 CFR 201.35(a), (c)(1)).

FOR FURTHER INFORMATION CONTACT: Tina Potuto Kimble, Office of General Counsel, U.S. International Trade Commission, telephone 202-205-3116, e-mail tkimble@usitc.gov.

Hearing-impaired individuals are advised that information on this matter may be obtained by contacting the Commission's TDD terminal on 202-205-1810.

SUPPLEMENTARY INFORMATION: The Commission believes that Petitioner has justified the need for a closed session. Petitioner seeks a closed session to allow for a discussion of its financial and operating condition and specific customer accounts. In this investigation, the aggregate data of the domestic industry are business proprietary information (BPI). Because discussion by Petitioner of its own operations and of the domestic industry's data will necessitate disclosure of BPI, it can only occur if a portion of the hearing is held in camera. In making this decision, the Commission nevertheless reaffirms its belief that whenever possible its business should be conducted in public.

The hearing will begin with public presentations by Petitioner with questions from the Commission. In addition, the hearing will include a 10-minute in camera session for a confidential presentation by the Petitioner (Rhodia) and for questions from the Commission relating to the business proprietary information (“BPI”). For any in camera session the room will be cleared of all persons except those who have been granted access to BPI under a Commission administrative protective order (APO) and are included on the Commission's APO service list in this investigation. See 19 CFR 201.35(b)(1), (2). The time for the petitioners' presentation in the in camera session will be taken from their respective overall allotment for the hearing. All persons planning to attend the in camera portions of the hearing should be prepared to present proper identification.

Authority: The General Counsel has certified, pursuant to Commission Rule 201.39 (19 C.F.R. 201.39) that, in her opinion, a portion of the Commission's hearing in Bulk Aspirin from China, Inv. No. 731-TA-828 (Final) may be closed to the public to prevent the disclosure of BPI.

Issued: May 17, 2000
By order of the Commission.
Donna R. Koehnke,
Secretary.

[FR Doc. 00-13077 Filed 5-23-00; 8:45 am]

BILLING CODE 7020-02-P